DEPARTMENT OF LABOR

Employment and Training Administration

[TA-W-73,800; TA-W-73,800A; TA-W-73,800B]

Sensata Technologies MA, Inc., Power Controls Division, Formerly Known As Airpax Corp., Cambridge, Maryland, Including Employees of Sensata Technologies MA, Inc., Power Controls Division Formerly Known As Airpax Corp., Cambridge, Maryland Working Off-Site in Falmouth, Massachusetts and Westfield, Indiana Amended Certification Regarding Eligibility To Apply for Worker Adjustment Assistance

In accordance with section 223 of the Trade Act of 1974, as amended (“Act”), 19 U.S.C. 2273, the Department of Labor issued a Certification of Eligibility to Apply for Worker Adjustment Assistance on May 25, 2010, applicable to workers of Sansata Technologies MA, Incorporated, Power Controls Division, formerly known as Airpax Corporation, Cambridge, Maryland. The notice will soon be published in the Federal Register.

At the request of a company official, the Department reviewed the certification for workers of the subject firm. The workers are engaged in activities related to the production of hydraulic magnetic circuit breakers.

New information shows that worker separations have occurred involving employees under the control of the Cambridge, Maryland location of Sensata Technologies MA, Incorporated, Power Controls Division, formerly known as AIRPAX Corporation, working off-site in Falmouth, Massachusetts (TA-W-73,800A) and Westfield, Indiana (TA-W-73,800B). These employees provided sales engineering functions supporting the Cambridge, Maryland production facility of the subject firm.

Based on these findings, the Department is amending this certification to include employees of the Cambridge, Maryland facility of the subject firm working off-site in Falmouth, Massachusetts and Westfield, Indiana.

The intent of the Department's certification is to include all workers of the subject firm who were adversely affected by a shift in production of hydraulic magnetic circuit breakers to Aguascalientes, Mexico.

The amended notice applicable to TA-W-73,800, TA-W-73,800A and TA-W-73,800B are hereby issued as follows:

All workers of Sensata Technologies MA, Incorporated, Power Controls Division, formerly known as AIRPAX Corporation, Cambridge, Maryland (TA-W-73,800), including employees of Sensata Technologies MA, Incorporated, Power Controls Division, formerly known as AIRPAX Corporation, Cambridge, Maryland working off-site in Falmouth, Massachusetts (TA-W-73,800A), and Westfield, Indiana (TA-W-73,800B), who became totally or partially separated from employment on or after March 25, 2010 through May 25, 2012, and all workers in the group threatened with total or partial separation from employment on date of certification through two years from the date of certification, are eligible to apply for adjustment assistance under Chapter 2 of Title II of the Trade Act of 1974, as amended.

Signed in Washington, DC, this 9th day of June 2010.
Elliott S. Kushner,
Certifying Officer, Division of Trade Adjustment Assistance.

[FR Doc. 2010-16012 Filed 6-30-10; 8:45 am]

BILLING CODE 4510-FN-P